FEDERAL ELECTION COMMISSION

11 CFR Parts 100, 109 and 110

[Notice 2001-5]

General Public Political Communications Coordinated With Candidates and Party Committees; Independent Expenditures

AGENCY: Federal Election Commission.

ACTION: Final rule; announcement of effective date.

SUMMARY: On December 6, 2000, the Commission published the text of revised regulations governing general public political communications coordinated with candidates and party committees, and independent expenditures. 65 FR 76138. The Commission announces that these rules are effective as of May 9, 2001.

EFFECTIVE DATE: May 9, 2001.

FOR FURTHER INFORMATION CONTACT: Ms. Rosemary C. Smith, Assistant General Counsel, or Ms. Rita A. Reimer, Attorney, 999 E Street, NW., Washington, DC 20463, (202) 694-1650 or toll free (800) 424-9530.

SUPPLEMENTARY INFORMATION: The Commission is announcing the effective date of revised regulations at 11 CFR Parts 100, 109 and 110, that address expenditures for coordinated communications that include clearly identified candidates, and that are paid for by persons other than candidates, candidates' authorized committees, and party committees. The rules, which largely follow the United States District Court for the District of Columbia's decision in Federal Election Commission v. The Christian Coalition, 53 F.Supp.2d 45 (D.D.C. 1999), address expenditures for communications made at the request or suggestion of a candidate, authorized committee or party committee; as well as those where any such person has exercised control or decision-making authority over the communication, or has engaged in substantial discussion or negotiation with those involved in creating, producing, distributing or paying for the communication. The rules also revise the defintion of “independent expenditure” to conform with this new definition.

Before final promulgation of any rules or regulations to carry out the provisions of Title 2 of the United States Code, the Commission transmits the rules or regulations to the Speaker of the House of Representatives and the President of the Senate for a thirty legislative day review period. 2 U.S.C. 438(d). These rules on coordinated and independent expenditures were transmitted to Congress on January 4, 2001. Thirty legislative days expired in the Senate on March 12, 2001, and the House of Representatives on March 29, 2001.

Announcement of Effective Date: Revised 11 CFR 100.16; 109.1(a), (b)(4), and (d)(1); and 110.14(f)(2) and (f)(3); and new 11 CFR 100.23, as published at 65 FR 76138 (Dec. 6, 2000), are effective as of May 9, 2001.

Dated: May 3, 2001.
Danny L. McDonald,
Chairman, Federal Election Commission.

[FR Doc. 01-11588 Filed 5-8-01; 8:45 am]

BILLING CODE 6715-01-P